DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more person who have been removed from the list of Specially Designated Nationals and Blocked Persons (SDN List). Their property and interests in property are no longer blocked, and U.S. persons are no longer generally prohibited from engaging in transactions with them.

DATES: See SUPPLEMENTARY INFORMATION section.

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On April 1, 2021, the President signed Executive Order (E.O.) 14022, “Termination of Emergency With Respect to the International Criminal Court,” which terminated the national emergency declared in E.O. 13928 of June 11, 2020, “Blocking Property of Certain Persons Associated With the International Criminal Court,” 85 FR 36139 and revoked that order.

As such, the following individuals are no longer subject to the blocking provisions of E.O. 13928 as of the effective date of E.O. 14022 and are removed from the SDN List:

Individuals

1. BENSOUDA, Fatou (a.k.a. BENSOUDA, Fatou Bom); DOB 31 Jan 1961; POB Banjul, The Gambia; nationality The Gambia; Gender Female; Passport D0015886 (individual) [ICCP-EO13928].

2. MOCHOCHOKO, Phakiso; DOB 04 Sep 1957; POB Sea Point, Maseru, Lesotho; nationality Lesotho; Gender Male; Passport DA001009 (individual) [ICCP-EO13928].

Dated: April 21, 2021.
Bradley T. Smith,
Acting Director, Office of Foreign Assets Control.

[FR Doc. 2021-08623 Filed 4-23-21; 8:45 am]

BILLING CODE 4810-AL-P